DEPARTMENT OF HOMELAND SECURITY

Transportation Security Administration

Intent To Request Approval From OMB of One New Public Collection of Information: Canine Program Training Form

AGENCY: Transportation Security Administration, DHS.

ACTION: 60-day notice.

SUMMARY: The Transportation Security Administration (TSA) invites public comment on a new Information Collection Request (ICR) abstracted below that we will submit to the Office of Management and Budget (OMB) for approval in compliance with the Paperwork Reduction Act. The ICR describes the nature of the information collection and its expected burden. The collection involves the on-line submission of names, Social Security numbers, addresses, department names, and phone numbers by individuals requesting participation in the TSA National Explosives Detection Canine Team Program (NEDCTP) through the Canine Web Site. The information is used to set up travel, handle reimbursement, and schedule training, all of which are crucial to program participation and administration.

DATES: Send your comments by May 4, 2009.

ADDRESSES: Comments may be mailed or delivered to Ginger LeMay, PRA Officer, Office of Information Technology, Transportation Security Administration, 601 South 12th Street, Arlington, VA 20598-6011.

FOR FURTHER INFORMATION CONTACT: Ginger LeMay, PRA Officer, Office of Information Technology, TSA-11, Transportation Security Administration, 601 South 12th Street, Arlington, VA 20598-6011; telephone (571) 227-3616; e-mail: ginger.lemay@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose and Description of Data Collection

The National Explosives Detection Canine Team Program (NEDCTP) is a partnership between TSA, airports, and local law enforcement. The NEDCTP supports TSA's mission by preparing law enforcement canine-handlers, who are not Federal employees, and canines to serve on the front lines of America's War on Terror. These canine teams (handler and canine) are trained to quickly locate and identify dangerous materials that may present a threat to transportation systems.

For this purpose, TSA collects the information pursuant to Public Law 104-264, Federal Aviation Reauthorization Act of 1996; Public Law 107-296, Homeland Security Act of 2002; and Public Law 107-71, Aviation and Transportation Security Act. TSA electronically collects and stores the Social Security number, credit card number, name, employment information (that is, airport ID and canine unit), and office phone and fax numbers of all canine handlers who apply to participate in the program. This information collection is crucial, as it is utilized to set up training, travel, and create a unique profile for each handler that allows them access into the Canine Web Site (CWS). The CWS is a Web-based application that serves as the collaboration tool for TSA and canine handlers across the Nation. The CWS serves as the main source of information for all NEDCTP records and operations. From the CWS, canine handlers, supervisors, and trainers can access helpful information pertinent to canine training, travel to training, reimbursement, message forums, user profiles (containing a limited amount of personal information, profiles of dogs, teams, and agencies), help desk messages, calendar data, equipment inventory, training aid inventory, training exercises, and daily utilization of canine teams. Without access to the CWS, canine handlers will not be able to perform their jobs or receive proper guidance and support from TSA.

Use of Results

TSA uses the information collected to arrange the handler's travel for training, and later on, to allow the handler access to the CWS. Once travel has been arranged, TSA uses the stored information to create a unique profile for each handler, which in turn allows for the issuing of a unique login credential into the CWS. The stored data is viewable only by the individual and their local law enforcement agency canine unit supervisor (a non-TSA employee) and authorized TSA personnel responsible for administering the program. The annual burden estimate is approximately 14 hours.

Issued in Arlington, Virginia, on February 27, 2009.
Ginger LeMay,
Paperwork Reduction Act Officer, Office of Information Technology.

[FR Doc. E9-4654 Filed 3-4-09; 8:45 am]

BILLING CODE 9110-05-P